INTERNATIONAL TRADE COMMISSION

[Investigation No. 337-TA-1305]

Certain Electronic Exercise Systems, Stationary Bicycles and Components Thereof and Products Including Same; Notice of the Commission's Determination Not To Review an Initial Determination Terminating the Investigation on the Basis of Settlement; Termination of the Investigation

AGENCY: U.S. International Trade Commission.

ACTION: Notice.

SUMMARY: Notice is hereby given that the U.S. International Trade Commission has determined not to review the presiding administrative law judge's (“ALJ”) initial determination (“ID”) (Order No. 7) terminating the investigation on the basis of settlement. The investigation is terminated in its entirety.

FOR FURTHER INFORMATION CONTACT: Amanda Pitcher Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 11, 2022, based on a complaint filed iFIT Inc. (F.K.A. ICON Health & Fitness, Inc.) of Logan, Utah. 87 FR 14039 (Mar. 11, 2022). The complaint, as supplemented, alleged violations of section 337 of the Tariff Act of 1930, as amended, 19 U.S.C. 1337, based upon the importation into the United States, the sale for importation, and the sale within the United States after importation of certain electronic exercise systems, stationary bicycles and components thereof and products including same by reason of infringement of certain claims of U.S. Patent No. 11,013,960. The complaint, as supplemented, further alleged that a domestic industry exists. The notice of investigation named as respondents Peloton Interactive, Inc. of New York, New York and Peloton Interactive UK Ltd. of London, England. Id. The Office of Unfair Import Investigations is not participating in the investigation. Id.

On May 20, 2022, the parties filed a joint motion to terminate the investigation in its entirety. The parties filed both public and confidential versions of the settlement agreement. The parties stated that “there are no other agreements, written or oral, express or implied, between them concerning the subject matter of this Investigation.” Order No. 7, at 2 (quoting Mem. at 4).

On June 17, 2022, the presiding ALJ issued Order No. 7 terminating the investigation. The ID found that the parties complied with Commission Rule 210.21(b). The ID also found that termination of the investigation will not adversely affect the public interest. No one petitioned for review of the ID.

The Commission has determined not to review the subject ID. The investigation is hereby terminated in its entirety.

The Commission vote for this determination took place on July 13, 2022.

The authority for the Commission's determination is contained in section 337 of the Tariff Act of 1930, as amended (19 U.S.C. 1337), and in Part 210 of the Commission's Rules of Practice and Procedure (19 CFR part 210).

By order of the Commission.
Issued: July 13, 2022.
William Bishop,
Supervisory Hearings and Information Officer.

[FR Doc. 2022-15325 Filed 7-18-22; 8:45 am]

BILLING CODE 7020-02-P